DEPARTMENT OF JUSTICE

Notice of Lodging of Consent Decree Under the Comprehensive Environmental Response, Compensation, and Liability Act

Notice is hereby given that on February 21, 2006, a proposed Consent Decree in United States v. Quanex Corporation, Civil Action No. 3:05-cv-50102, was lodged with the United States District Court for the Northern District of Illinois.

In this action the United States sought, under section 107 of the Comprehensive Environmental Response, Compensation, and Liability Act (“CERCLA”), 42 U.S.C. 9607, to recover response costs incurred or to be incurred by the United States in connection with the Jepscor Metals Superfund Site (the “Site”), located southeast of the City of Dixon, in Lee County, Illinois. Under the proposed settlement, Quanex Corporation (“Settling Defendant”) will pay one million dollars of U.S. EPA's past costs incurred at the Site. In return, the Settling Defendant will receive contribution protection and a covenant not to sue from the United States for past response costs, as defined in the Consent Decree.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Quanex Corporation, D.J. Ref. 90-11-2-08317.

The Consent Decree may be examined at the Office of the United States Attorney, 308 West State Street, Suite 300, Rockford, Illinois 61101, and at U.S. EPA Region V, 77 West Jackson Blvd., Chicago, IL 60604. During the public comment period, the Consent Decree may also be examined on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood tonia.fleetwood@usdoj.gov), fax no. (202) 514-0097, phone confirmation number (202) 514-1547. In requesting a copy from the Consent Decree Library, please enclose a check in the amount of $5.25 (25 cents per page reproduction cost) payable to the U.S. Treasury.

William D. Brighton,
Assistant Chief, Environmental Enforcement Section, Environment and Natural Resources Division.

[FR Doc. 06-2199 Filed 3-8-06; 8:45 am]

BILLING CODE 4410-15-M